DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: Malcolm Baldrige National Quality Award Application.

Form Number(s): None.

OMB Approval Number: 0693-0006.

Type of Request: Regular submission.

Burden Hours: 10,000.

Number of Respondents: 100.

Average Hours Per Response: 100.

Needs and Uses: Information and quantitative data collected from the Award Applications is used as the basis for a rigorous evaluation of each applicant by Baldrige Examiners to determine the applicant's quality achievements and quality improvements and to determine which, if any, company or organization will receive the Award.

Affected Public: Business or other for-profit organizations, not-for profit institutions.

Frequency: On occasion.

Respondent's Obligation: Voluntary.

OMB Desk Officer: David Rostker, (202) 395-3897.

Copies of the above information collection proposal can be obtained by calling or writing Madeleine Clayton, Departmental Paperwork Clearance Officer, (202) 482-3129, Department of Commerce, Room 6608, 14th and Constitution Avenue, NW., Washington, DC 20230 (or via the Internet at MClayton@doc.gov).

Written comments and recommendations for the proposed information collection should be sent within 30 days of publication of this notice to David Rostker, OMB Desk Officer, Room 10202, New Executive Office Building, Washington, DC 20503.

Dated: June 20, 2002.
Madeleine Clayton,
Departmental Paperwork Clearance Officer, Office of the Chief Information Officer.

[FR Doc. 02-16046 Filed 6-25-02; 8:45 am]

BILLING CODE 3510-13-P